DEPARTMENT OF DEFENSE

Department of the Army

Preparation of the Supplemental Programmatic Environmental Impact Statement (SPEIS) for Army Growth and Force Structure Realignment To Support Operations in the Pacific Theater

AGENCY: Department of the Army, DoD.

ACTION: Notice of Intent.

SUMMARY: The Army intends to prepare an SPEIS in order to evaluate the relative environmental and socioeconomic impacts of support operations growth in the Pacific Theater as it transforms and aligns its forces to address existing capabilities shortfalls. As part of Army growth, this evaluation will be conducted to supplement the analysis and decisions that were included in the PEIS for Grow the Army (for continental U.S. (CONUS) locations), which was completed in January 2008.

The Army will use the SPEIS analysis to evaluate and compare the environmental and socioeconomic impacts of alternatives for implementing its Proposed Action. The Army's Proposed Action is to grow, realign, and transform its forces to support operations in the Pacific Theater and to ensure the proper capabilities exist to sustain operations in promoting global and national security now and into the foreseeable future. The implementation of the Proposed Action is needed to better meet military operational and national security requirements and the needs of the Army's Soldiers and their Families.

The SPEIS will assess the capacity of Army installations and their ability to accommodate new units as part of Army growth and force structure realignment to support operations in the Pacific Theater. Alternatives in the SPEIS could include stationing of additional Combat Support (CS) or Combat Service Support (CSS) units or new support brigades. The following alternatives will be analyzed in the SPEIS: (1) Grow, transform, and realign forces by stationing approximately 5,000 additional CS/CSS Soldiers in reasonable locations that support operations in the Pacific Theater; (2) Grow, transform, and realign forces by stationing approximately 7,500 additional CS/CSS Soldiers in reasonable locations that support operations in the Pacific Theater and (3) Grow, transform, and realign forces by stationing approximately 10,000 additional CS/CSS Soldiers in reasonable locations that support operations in the Pacific Theater. The SPEIS will evaluate different stationing scenarios in reasonable locations, which may include Army installations in the CONUS, Hawaii and Alaska with the capability to support operations in the Pacific Theater.

In addition to the above alternatives, the No Action Alternative will be considered and used as a baseline for comparison of alternatives. The No Action Alternative is to retain the U. S. Army forces in the Pacific in their current end strength and force structure. The No Action Alternative includes those stationing decisions which have already been made to include stationing actions directed by Base Realignment and Closure legislation in 2005, Army Global Defense Posture Realignment, and Army Modular Forces initiatives. The No Action Alternative is not a viable means for meeting the current and future strategic security and defense requirements of the nation.

The SPEIS will analyze the Proposed Action's impacts upon the natural, cultural, and man-made environments at those stationing locations which are capable of supporting the needs of the Army and its Soldiers and Families. Viable alternatives include those stationing locations that are able to meet Army unit requirements for training ranges and maneuver space, housing and office space, maintenance and vehicle parking, and Soldier and Family quality of life (e.g., schools, gyms, medical facilities). In addition, viable alternatives must meet the operational mission requirements of the Pacific Command (PACOM).

ADDRESSES: Submit comments to PublicComments@aec.apgea.army.mil.

FOR FURTHER INFORMATION CONTACT: Public Affairs Office, U.S. Army Environmental Command, Building E4460, 5179 Hoadley Road, Attention: IMAE-PA, Aberdeen Proving Ground, MD 21010-5401; telephone: (410) 436-2556; facsimile: (410) 436-1693. The Public Affairs Office is open during normal business hours Monday through Friday 9 a.m. to 5 p.m. Eastern Time.

SUPPLEMENTARY INFORMATION: The global security environment is turbulent, unpredictable, and rapidly changing. It has placed considerable demands on the nation's military and highlighted the need for the Army to correct shortfalls in high-demand skills while reassessing its force capabilities. To meet the challenges of the 21st century security environment, the Army requires the growth and restructuring of its forces to support operations in the Pacific Theater to sustain the broad range of missions required to promote regional, national, and global stability.

Final decisions for the implementation of Army stationing actions within CONUS were published in the Federal Register in January 2008. Force structure requirements for U.S. Army Pacific (USARPAC) are still being evaluated. The SPEIS will consider the projected environmental and socioeconomic impacts of different stationing actions at locations capable of supporting operations in the Pacific Theater.

Alternatives for Army growth and force structure realignment to support operations in the Pacific Theater could involve the addition of new units, unit realignment from existing locations, and reconfiguration of the existing force structure in accordance with Army transformation. Adjustments to Army force structure could include changes in the numbers of CS/CSS Soldiers needed to support USARPAC operations with critical military skills such as military police, engineers, explosive ordnance detachments, logistics and command and control functions. Secondly, growth, realignment, and transformation could involve the addition of new support brigades or constituent units of support brigades at reasonable locations capable of supporting operations in the Pacific Theater. Support brigade stationing decisions could involve the stationing of an aviation brigade, a fires brigade, a battlefield surveillance brigade, a maneuver enhancement brigade, a sustainment brigade, an engineer brigade, a military police brigade, or a combination of these support brigades and the units that compose them. The Army is not considering the stationing of new Brigade Combat Teams (BCT) in USARPAC at this time.

Proposed alternatives to grow the Army to support operations in the Pacific Theater could involve three primary actions depending on the installation being analyzed. These actions include the construction of housing and quality of life facilities (i.e., barracks, schools, gymnasiums), the construction of new training ranges and infrastructure, and changes in the intensity and frequency of use of maneuver land and firing ranges. Evaluations will include strategic military and national security considerations for new stationing actions at locations that, if selected, are capable of supporting the National Security Strategy (2006), the QDR (2006), National Military Strategy, and the Army Campaign Plan.

Based on public scoping and the factors discussed above, the Army will refine its range of reasonable alternatives to the extent possible to accommodate both mission requirements and quality of life considerations. In reaching its decision, the Army will assess and consider public concerns. The SPEIS will compare the direct, indirect, and cumulative environmental effects that may result from stationing actions connected with initiatives to grow the Army. The primary environmental issues to be analyzed will include those identified as the result of the scoping process and installation-specific considerations. These issues may include impacts to soil, water and air quality, airspace conflicts, natural and cultural resources, land use compatibility, noise, socioeconomics, environmental justice, energy use, human health and safety considerations, and infrastructure and range/training requirements.

Scoping and Public Comment: All interested members of the public, federally-recognized Indian Tribes, Alaska Natives, Native Hawaiian groups, federal, state, and local agencies are invited to participate in the scoping process for the preparation of this SPEIS. Comments identifying environmental issues, concerns and opportunities to be analyzed in the SPEIS will be accepted for 30 days following publication of this Notice of Intent in the Federal Register.

Dated: March 5, 2008.
Addison D. Davis, IV,
Deputy Assistant Secretary of the Army (Environment, Safety, and Occupational Health).

[FR Doc. E8-4882 Filed 3-12-08; 8:45 am]

BILLING CODE 3710-08-M